DEPARTMENT OF TRANSPORTATION

Office of the Secretary

Aviation Proceedings, Agreements Filed the Week Ending October 10, 2009

The following Agreements were filed with the Department of Transportation under Sections 412 and 414 of the Federal Aviation Act, as amended (49 U.S.C. 1382 and 1384) and procedures governing proceedings to enforce these provisions. Answers may be filed within 21 days after the filing of the application.

Docket Number: DOT-OST-2009-0245.

Date Filed: October 7, 2009.

Parties: Members of the International Air Transport Association.

Subject:

TC31 North & Central Pacific/TC3—Central America, South America Resolutions and Specified Fares Tables (Memo 0498).

Intended Effective Date: April 1, 2010.

Docket Number: DOT-OST-2009-0246.

Date Filed: October 7, 2009.

Parties: Members of the International Air Transport Association.

Subject:

TC31 North & Central Pacific/Japan—North America, Caribbean Resolutions and Specified Fares Tables, (Memo 0499).

Intended Effective Date: April 1, 2010.

Docket Number: DOT-OST-2009-0247.

Date Filed: October 7, 2009.

Parties: Members of the International Air Transport Association.

Subject:

TC31 North & Central Pacific—Areawide Resolutions (Memo 0497).

Intended Effective Date: April 1, 2010.

Docket Number: DOT-OST-2009-0248.

Date Filed: October 8, 2009.

Parties: Members of the International Air Transport Association.

Subject:

TC31 North & Central Pacific, TC3 (except Japan)—North America, Caribbean (except between Korea (Rep. of), Malaysia and USA). Resolutions and Specified Fares Tables, (Memo 0500).

Intended Effective Date: April 1, 2010.

Docket Number: DOT-OST-2009-0251.

Date Filed: October 9, 2009.

Parties: Members of the International Air Transport Association.

Subject:

TC31 North & Central Pacific, Between Korea (Rep. of), Malaysia and USA, Resolutions and Specified Fares Tables (Memo 0501).

Intended Effective Date: April 1, 2010.

Renee V. Wright,
Program Manager, Docket Operations, Federal Register Liaison.

[FR Doc. E9-26066 Filed 10-28-09; 8:45 am]

BILLING CODE 4910-9X-P